DEPARTMENT OF JUSTICE

Notice of Lodging of Proposed Consent Judgment Under the Resource Conservation and Recovery Act

On March 24, 2022, the Department of Justice lodged a proposed consent judgment with the United States District Court for the Eastern District of New York in the lawsuit entitled United States of America v. Genesis Petroleum, Inc., et al., Civil Action No. 19-cv-3340.

The United States, on behalf of the Environmental Protection Agency (“EPA”), filed the complaint in this Resource Conservation and Recovery Act (“RCRA”) case on June 5, 2019. The Complaint alleges that Genesis Petroleum, Inc., Technic Management, Inc., Gulden Inc., 2664 RT 112 Realty Corp., 607 Station Road Realty Inc., 1000 Motor Parkway Central Islip LLC, 616 Broadway LLC, Freeport Realty LLC, 199 E Sunrise Highway Realty Corp., 465 Nassau Road Realty Corp., Camlica, Inc., Kucukbey Corp., North Country Road Realty LLC; Elizabeth NJPO LLC, Elizabeth NJPG LLC, Perth Amboy NJPO LLC, Perth Amboy NJPG LLC, Newark NJPO LLC, Newark NJPG LLC, North Bergen NJPO LLC, and North Bergen NJPG LLC (collectively, “Defendants”) are civilly liable for violations of regulations promulgated under RCRA Subchapter IX governing underground storage tanks. The complaint alleges that Defendants failed to comply with RCRA regulations as administered by the EPA for underground storage tanks at 13 facilities owned and/or operated by Defendants in New York and New Jersey.

The alleged violations include the failure to: Install and use spill prevention equipment; use overfill prevention equipment; provide release detection for USTs; provide release detection for pressurized piping; test automatic line leak detectors; report suspected releases; perform release detection for USTs that were temporarily closed but still contained more than three feet of petroleum products; maintain and timely provide records of release detection monitoring; timely respond to requests for information issued by EPA and maintain financial responsibility and evidence of financial responsibility.

Under the Proposed Consent Judgment, Defendants shall ensure and maintain compliance with RCRA UST regulations at 29 facilities that they own and/or operate in New York and New Jersey. Defendants will pay a civil penalty of $250,000. The Proposed Consent Judgment will resolve all RCRA claims alleged in this action by the United States against Defendants.

The publication of this notice opens a period for public comment on the Proposed Consent Judgment should be addressed to the Assistant Attorney General, Environment and Natural Resources Division, Environmental Enforcement Section, and should refer to United States v. Genesis Petroleum, Inc., et al., D.J. Ref. No. 90-7-1-11202. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department website: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $9.00 (25 cents per page reproduction cost) payable to the United States Treasury.

Henry Friedman,
Assistant Section Chief, Environmental Enforcement Section, Environment and Natural Resources Division.

[FR Doc. 2022-06791 Filed 3-30-22; 8:45 am]

BILLING CODE 4410-15-P